DEPARTMENT OF AGRICULTURE

Food and Nutrition Service

Agency Information Collection Activities: Proposed Collection; Comment Request—School Nutrition and Meal Cost Study-II

AGENCY: Food and Nutrition Service, USDA.

ACTION: Notice of Information Collection; request for comment.

SUMMARY: In accordance with the Paperwork Reduction Act of 1995, the Food and Nutrition Service (FNS) invites the general public and other public agencies to comment on this proposed information collection. This collection is a new collection for the School Nutrition and Meal Cost Study-II (SNMCS-II). The purpose of SNMCS-II is to provide a comprehensive picture of school food service operations and the nutritional quality, cost, and acceptability of meals served in the National School Lunch Program (NSLP) and School Breakfast Program (SBP).

DATES: Written comments on this notice must be received on or before August 27, 2018.

ADDRESSES: Comments may be sent to: John Endahl, Office of Policy Support, Food and Nutrition Service, U.S. Department of Agriculture, 3101 Park Center Drive, Room 1004, Alexandria, VA 22302. Comments may also be submitted via fax to the attention of John Endahl at 703-305-2576 or via email to john.endahl@fns.usda.gov. Comments will also be accepted through the Federal eRulemaking Portal. Go to http://www.regulations.gov, and follow the online instructions for submitting comments electronically.

All written comments will be open for public inspection at the office of the Food and Nutrition Service during regular business hours (8:30 a.m. to 5:00 p.m., Monday through Friday) at 3101 Park Center Drive, Alexandria, Virginia 22302.

All responses to this notice will be summarized and included in the request for Office of Management and Budget approval. All comments will be a matter of public record.

FOR FURTHER INFORMATION CONTACT: Requests for additional information or copies of this information collection should be directed to John Endahl at 703-305-2127.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: School Nutrition and Meal Cost Study-II.

Form Number: N/A.

OMB Number: Not yet assigned.

Expiration Date: Not yet determined.

Type of Request: New collection.

Abstract: SNMCS-II will provide a comprehensive picture of the NSLP and SBP, and will provide critical information about the nutritional quality, cost, and acceptability of school meals seven years after major reforms began being phased in during the 2012-2013 school year (SY). SNMCS-II will collect a broad range of data from nationally representative samples of public school food authorities (SFAs), public, non-charter schools, students, and parents/guardians during SY 2019-2020. These data will provide Federal, State, and local policymakers with current information about how federally sponsored school meal programs are operating by updating the information that was collected in SY 2014-2015 for the first School Nutrition and Meal Cost Study (SNMCS-I). In addition, findings from SNMCS-II will be compared to those from SNMCS-I to explore trends in key domains including the nutrient content of school meals, meal costs and revenues, and student participation, plate waste, and dietary intakes. SNMCS-II will also estimate the costs of producing reimbursable school meals in up to five States and Territories outside of the 48 contiguous States and the District of Columbia (DC), and examine the relationship of costs to revenues in those five outlying areas. Section 28(a) of the Richard B. Russell National School Lunch Act authorizes this assessment of the cost of producing meals, and the nutrient profile of meals under the NSLP and SBP.

The sample frame of SFAs is divided into four groups, including the outlying areas. Samples in Groups 1, 2, and 3 are limited to the contiguous 48 States and DC. The outlying areas sample includes SFAs and schools in Alaska, Guam, Hawaii, Puerto Rico, and the U.S. Virgin Islands.

Data collected from the Group 1 sample will provide the precision required for national estimates of SFA-level characteristics and food service operations. Data collected from the Group 2 sample will be used to address study objectives related to the school nutrition environment and food service operations; the food and nutrient content of school meals; student participation in the NSLP and SBP; student/parent satisfaction with the school meal programs; and students' characteristics and dietary intakes. Data collected from the Group 3 sample will be used to address study objectives related to the school nutrition environment and food service operations; the food and nutrient content of school meals; the costs to produce reimbursable school lunches and breakfasts, including indirect and local administrative costs, and the ratios of revenues to costs; and plate waste in the school meals programs. Data collected from the outlying areas sample will be used to estimate the costs of producing reimbursable school meals and the ratios of revenues to costs.

There is pre-testing burden that is associated with this collection. This burden was reviewed and approved by the Office of Management and Budget on March 19, 2018 under OMB# 0584-0606 FNS Generic Clearance for Pre-Testing, Pilot, and Field Test Studies (School Nutrition and Meal Cost Study-II, Outlying Areas Cost Study Feasibility Assessment). This burden is not included in the burden estimates for this collection.

Affected Public: State, Local, and Tribal Governments respondent groups include: (1) State Child Nutrition Agency directors; (2) State Education Agency finance officers; (3) school district superintendents; (4) SFA directors; (5) local educational agency business managers; (6) menu planners; (7) school nutrition managers (SNMs); (8) principals; and (9) school study liaisons appointed by principals. Private Sector For-Profit Business respondents include food service management company managers. Individual respondents include: (1) Students (first grade through high school) and (2) their parents/guardians.

Estimated Number of Respondents: A total of 12,979 members of the public will be initially contacted to participate in the study. This includes 4,954 from State, Local, and Tribal Governments, 25 from Private Sector For-Profit Businesses, and 8,000 Individuals. Initial contact will vary by type of respondent and may include study notification, recruiting, or data collection. FNS anticipates that approximately 12,904 of this sample will respond to initial contact and 75 will not respond. Some respondents who respond to the initial contact may subsequently become non-respondents to one or more components of the data collection. The number of unique respondents expected to provide data for the study is 7,886.

The Group 1 completed sample includes 125 SFAs but no schools. Group 1 SFA directors will participate in the SFA Director Survey.

The Group 2 completed sample comprises 125 SFAs, 250 schools, and 2,000 students and their parents/guardians. SFA and school staff will participate in the SFA Director and School Planning Interviews; SFA Director, SNM, and Principal Surveys; the Basic Menu Survey, A la Carte Foods Checklist, and Meal Pattern Crediting Report; and Cafeteria Observation Guide and Competitive Foods Checklists. Students and parents/guardians will complete the Student Interview, including height and weight measurement; 24-dietary recall; and Parent Interview.

The Group 3 completed sample includes 250 SFAs and 750 schools. SFA and school staff will participate in the SFA Director and School Planning Interviews; SFA Cost Interview and Food Cost Worksheet; SFA Follow-Up Web Survey and Cost Interview; SNM Cost Interview; Principal Cost Interview; SFA Director, SNM, and Principal Surveys; the Expanded Menu Survey, A la Carte Foods Checklist, and Meal Pattern Crediting Report; and Cafeteria Observation Guide and Competitive Foods Checklists. Forty State Education Agency finance officers will complete the State Agency Indirect Cost Survey. Plate waste will be observed for 3,900 reimbursable lunches and 2,000 reimbursable breakfasts at a subsample of 130 schools among this Group 3 sample.

In the outlying areas, following recruitment, SFA and school staff in 33 SFAs and 216 schools will complete the SFA Director and School Planning Interviews; SFA Cost Interview and Food Cost Worksheet; SFA Follow-Up Web Survey and Cost Interview; SNM Cost Interview; Principal Cost Interview; and the Expanded Menu Survey. Up to 5 State Education Agency finance officers will complete the State Agency Indirect Cost Survey and the State Child Nutrition Agency directors in Hawaii and the U.S. Virgin Islands will complete the SFA Cost Interview and SFA Follow-Up Cost Interview to capture the State agencies' involvement in SFAs' food service operations.

Estimated Number of Responses per Respondent: All respondents will be asked to respond to each specific data collection activity only once. The overall average number of responses per respondent across the entire collection is 3.52.

Estimated Total Annual Responses: 45,653.

Estimated Time per Response: 33 minutes (0.55 hours). The estimated response varies from 1 minute to 10.25 hours, depending on the data collection activity and the respondent group, as shown in the table below.

Estimated Total Annual Burden on Respondents: 25,184 hours. This includes 24,950 hours for respondents and 234 hours for non-respondents. See the table below for each type of respondent.

Dated: June 20, 2018.
Brandon Lipps,
Administrator Food and Nutrition Service.

Affected public | Data collection activity | Respondents | Response: Estimated number of respondents | Response: Frequency of response | Response: Total annual responses | Response: Average burden hours per response | Response: Total annual burden estimate (hours) | Non-Response: Estimated number of respondents | Non-Response: Frequency of response | Non-Response: Total annual responses | Non-Response: Average burden hours per response | Non-Response: Total annual burden estimate (hours) | Grand total annual burden estimate (hours)
State | Study Notification and SFA Data Request Email (a)(b)(c) | State Child Nutrition Agency Directors (Groups 1, 2, 3, outlying areas) | 54 | 1 | 54 | 0.40 | 21.60 | 0 | 0 | 0 | 0.00 | 0.00 | 21.60
State | Telephone Interview (SFA Cost Interview, provide financial records) | State Child Nutrition Agency Directors (outlying areas) | 2 | 1 | 2 | 3.08 | 6.16 | 0 | 0 | 0 | 0.00 | 0.00 | 6.16
State | Telephone Interview (SFA Follow-Up Cost Interview, provide financial records) | State Child Nutrition Agency Directors (outlying areas) | 2 | 1 | 2 | 2.00 | 4.00 | 0 | 0 | 0 | 0.00 | 0.00 | 4.00
State | Self-Administered Form (study letter, State Agency Indirect Cost Survey) (a)(b)(c) | State Education Agency Finance Officers (Group 3, outlying areas) | 45 | 1 | 45 | 0.17 | 7.65 | 9 | 1 | 9 | 0.07 | 0.63 | 8.28
Local and Tribal | Recruitment (a)(c) | Superintendents (Groups 2, 3, outlying areas) | 438 | 1 | 438 | 0.33 | 144.54 | 35 | 1 | 35 | 0.07 | 2.45 | 146.99
Local and Tribal | Study Notification (a) | SFA Directors (Groups 2, 3, outlying areas) | 473 | 1 | 473 | 0.10 | 47.30 | 0 | 0 | 0 | 0.00 | 0.00 | 47.30
Local and Tribal | Recruitment (c) | SFA Directors (Groups 2, 3, outlying areas) | 438 | 1 | 438 | 0.28 | 122.64 | 35 | 1 | 35 | 0.07 | 2.45 | 125.09
Local and Tribal | Telephone Survey (SFA Director Planning Interview, study confirmation) | SFA Directors (Groups 2, 3, outlying areas) | 438 | 1 | 438 | 0.58 | 254.04 | 0 | 0 | 0 | 0.00 | 0.00 | 254.04
Local and Tribal | Web Survey Advance Letter (a)(c) | SFA Directors (Group 1) | 139 | 1 | 139 | 0.05 | 6.95 | 0 | 0 | 0 | 0.00 | 0.00 | 6.95
Local and Tribal | Web Survey Invitation | SFA Directors (Groups 1, 2, 3) | 555 | 1 | 555 | 0.02 | 11.10 | 0 | 0 | 0 | 0.00 | 0.00 | 11.10
Local and Tribal | Self-Administered Web Survey (SFA Director Survey) (b)(c) | SFA Directors (Group 1) | 125 | 1 | 125 | 0.83 | 103.75 | 14 | 1 | 14 | 0.07 | 0.93 | 104.68
Local and Tribal | Self-Administered Web Survey (SFA Director Survey) (b)(c) | SFA Directors (Group 2) | 125 | 1 | 125 | 0.83 | 103.75 | 14 | 1 | 14 | 0.07 | 0.93 | 104.68
Local and Tribal | Self-Administered Web Survey (SFA Director Survey) (b)(c) | SFA Directors (Group 3) | 250 | 1 | 250 | 0.83 | 207.50 | 27 | 1 | 27 | 0.07 | 1.80 | 209.30
Local and Tribal | Web Survey Reminder | SFA Directors (Groups 1, 2, 3) | 278 | 1 | 278 | 0.15 | 41.70 | 0 | 0 | 0 | 0.00 | 0.00 | 41.70
Local and Tribal | School Roster Request Email | SFA Directors (Group 2) | 98 | 1 | 98 | 1.00 | 98.00 | 32 | 1 | 32 | 0.07 | 2.24 | 100.24
Local and Tribal | On-Site Data Collection Logistics Email | SFA Directors (Groups 2, 3) | 390 | 1 | 390 | 0.05 | 19.50 | 0 | 0 | 0 | 0.00 | 0.00 | 19.50
Local and Tribal | In-person Interview (SFA Cost Interview, Food Cost Worksheet, provide records) | SFA Directors (Group 3) | 250 | 1 | 250 | 3.25 | 812.50 | 14 | 1 | 14 | 0.14 | 1.96 | 814.46
Local and Tribal | Telephone Interview (SFA Cost Interview, Food Cost Worksheet, provide records) (b) | SFA Directors (outlying areas) | 33 | 1 | 33 | 3.25 | 107.25 | 2 | 1 | 2 | 0.14 | 0.28 | 107.53
Local and Tribal | In-person or Telephone Interview (SFA Cost Interview, provide records) (a)(b)(c) | LEA Business Managers (Group 3, outlying areas) | 283 | 1 | 283 | 3.08 | 871.64 | 16 | 1 | 16 | 0.07 | 1.12 | 872.76
Local and Tribal | Follow-Up Web Survey Invitation | SFA Directors (Group 3, outlying areas) | 283 | 1 | 283 | 0.05 | 14.15 | 0 | 0 | 0 | 0.00 | 0.00 | 14.15
Local and Tribal | Self-Administered Web Survey (SFA Follow-Up Web Survey) (c) | SFA Directors (Group 3, outlying areas) | 269 | 1 | 269 | 0.50 | 134.50 | 14 | 1 | 14 | 0.07 | 0.93 | 135.43
Local and Tribal | Telephone Interview (SFA Follow-Up Cost Interview, provide financial records) | SFA Directors (Group 3, outlying areas) | 269 | 1 | 269 | 2.00 | 538.00 | 14 | 1 | 14 | 0.07 | 0.93 | 538.93
Local and Tribal | Telephone Interview (SFA Follow-Up Cost Interview, provide financial records) (c) | LEA Business Managers (Group 3, outlying areas) | 269 | 1 | 269 | 2.00 | 538.00 | 14 | 1 | 14 | 0.07 | 0.93 | 538.93
Local and Tribal | Self-Administered Web Survey (Meal Pattern Crediting Report) (a)(b)(c) | Menu Planners (Groups 2, 3) | 375 | 1 | 375 | 1.50 | 562.50 | 15 | 1 | 15 | 0.07 | 1.05 | 563.55
Local and Tribal | Study Notification (a) | School Nutrition Managers (Groups 2, 3, outlying areas) | 1,541 | 1 | 1,541 | 0.13 | 200.33 | 0 | 0 | 0 | 0.00 | 0.00 | 200.33
Local and Tribal | Self-Administered Web Survey (School Planning Interview) (c) | School Nutrition Managers (Group 3, outlying areas) | 966 | 1 | 966 | 0.25 | 241.50 | 50 | 1 | 50 | 0.07 | 3.50 | 245.00
Local and Tribal | On-Site Data Collection Logistics Email | School Nutrition Managers (Groups 2, 3) | 1,040 | 1 | 1,040 | 0.05 | 52.00 | 0 | 0 | 0 | 0.00 | 0.00 | 52.00
Local and Tribal | Self-Administered Web Survey (Basic Menu Survey, A la Carte Foods Checklist, SNM Survey) (b)(c) | School Nutrition Managers (Group 2) | 250 | 1 | 250 | 8.25 | 2,062.50 | 13 | 1 | 13 | 0.14 | 1.78 | 2,064.28
Local and Tribal | Self-Administered Web Survey (Expanded Menu Survey, A la Carte Foods Checklist, SNM Survey) (b)(c) | School Nutrition Managers (Group 3) | 750 | 1 | 750 | 10.25 | 7,687.50 | 39 | 1 | 39 | 0.14 | 5.33 | 7,692.83
Local and Tribal | Self-Administered Web Survey (Expanded Menu Survey) (b)(c) | School Nutrition Managers (outlying areas) | 216 | 1 | 216 | 8.34 | 1,801.44 | 11 | 1 | 11 | 0.07 | 0.75 | 1,802.19
Local and Tribal | In-person or Telephone Interview (SNM Cost Interview) | School Nutrition Managers (Group 3, outlying areas) | 966 | 1 | 966 | 1.00 | 966.00 | 50 | 1 | 50 | 0.07 | 3.33 | 969.33
Local and Tribal | Interviewer-Completed Observation (Self-Serve/Made-to-Order Bar Form) | School Nutrition Managers (Group 3) | 173 | 1 | 173 | 0.17 | 28.83 | 9 | 1 | 9 | 0.07 | 0.60 | 29.43
Local and Tribal | Interviewer-Completed Observation (Cafeteria Observation Guide) | School Nutrition Managers (Groups 2, 3) | 1,000 | 1 | 1,000 | 0.08 | 83.00 | 0 | 0 | 0 | 0.00 | 0.00 | 83.00
Local and Tribal | Interviewer-Completed Observation (Point-of-Sale Form) | School Nutrition Managers (Group 2) | 250 | 1 | 250 | 0.08 | 20.83 | 0 | 0 | 0 | 0.00 | 0.00 | 20.83
Local and Tribal | In-person Data Request (Reimbursable Meal Sale Data Request) | School Nutrition Managers (Group 2) | 250 | 1 | 250 | 0.17 | 41.67 | 0 | 0 | 0 | 0.00 | 0.00 | 41.67
Local and Tribal | Interviewer-Completed Observation (Plate Waste Observation Booklet) | School Nutrition Managers (Group 3) | 130 | 1 | 130 | 0.17 | 21.67 | 0 | 0 | 0 | 0.00 | 0.00 | 21.67
Local and Tribal | Study Notification and On-Site Data Collection Logistics Email (a) | Principals (Groups 2, 3) | 1,040 | 1 | 1,040 | 0.18 | 187.20 | 0 | 0 | 0 | 0.00 | 0.00 | 187.20
Local and Tribal | Study Notification (a) | Principals (outlying areas) | 227 | 1 | 227 | 0.13 | 29.51 | 0 | 0 | 0 | 0.00 | 0.00 | 29.51
Local and Tribal | Web Survey Invitation | Principals (Groups 2, 3) | 1,000 | 1 | 1,000 | 0.02 | 20.00 | 0 | 0 | 0 | 0.00 | 0.00 | 20.00
Local and Tribal | Self-Administered Web Survey (Principal Survey) (b)(c) | Principals (Groups 2, 3) | 900 | 1 | 900 | 0.50 | 450.00 | 100 | 1 | 100 | 0.07 | 6.67 | 456.67
Local and Tribal | Web Survey Reminder | Principals (Groups 2, 3) | 500 | 1 | 500 | 0.15 | 75.00 | 0 | 0 | 0 | 0.00 | 0.00 | 75.00
Local and Tribal | In-person Interview (Principal Cost Interview) | Principals (Group 3) | 750 | 1 | 750 | 0.75 | 562.50 | 39 | 1 | 39 | 0.07 | 2.60 | 565.10
Local and Tribal | Telephone Interview (Principal Cost Interview) (b)(c) | Principals (outlying areas) | 216 | 1 | 216 | 0.75 | 162.00 | 11 | 1 | 11 | 0.07 | 0.73 | 162.73
Local and Tribal | Self-Administered Web Survey (School Planning Interview) (a)(b)(c) | School Liaisons (Group 2) | 264 | 1 | 264 | 0.25 | 66.00 | 0 | 0 | 0 | 0.00 | 0.00 | 66.00
Local and Tribal | On-Site Data Collection Logistics Email | School Liaisons (Group 2) | 250 | 1 | 250 | 0.05 | 12.50 | 0 | 0 | 0 | 0.00 | 0.00 | 12.50
Local and Tribal | School Roster Request Email | School Liaisons (Group 2) | 70 | 1 | 70 | 1.00 | 70.00 | 0 | 0 | 0 | 0.00 | 0.00 | 70.00
Subtotal State, Local, and Tribal Governments |  |  | 4,879 |  | 18,630 |  | 19,620.70 | 75 |  | 577 |  | 43.94 | 19,664.64
Private Sector For-Profit | Study Notification (a) | Food Service Management Company Manager (Groups 2, 3, outlying areas) | 25 | 1 | 25 | 0.07 | 1.75 | 0 | 0 | 0 | 0.00 | 0.00 | 1.75
Private Sector For-Profit | Recruitment (c) | Food Service Management Company Manager (Groups 2, 3, outlying areas) | 24 | 1 | 24 | 0.25 | 6.00 | 1 | 1 | 1 | 0.07 | 0.07 | 6.07
Subtotal Private Sector For-Profit Businesses |  |  | 25 |  | 49 |  | 7.75 | 0 |  | 1 |  | 0.07 | 7.82
Individual | Study Notification (a) | Parents/Guardians (Group 2) | 4,000 | 1 | 4,000 | 0.13 | 520.00 | 0 | 0 | 0 | 0.00 | 0.00 | 520.00
Individual | Study Consent Form (c) | Parents/Guardians (Group 2) | 3,712 | 1 | 3,712 | 0.10 | 371.20 | 288 | 1 | 288 | 0.07 | 20.16 | 391.36
Individual | Survey Invitation | Parents/Guardians (Group 2) | 2,222 | 1 | 2,222 | 0.02 | 44.44 | 0 | 0 | 0 | 0.00 | 0.00 | 44.44
Individual | Self-Administered Web Survey or Telephone Interview (Parent Interview) (b)(c) | Parents/Guardians (Group 2) | 2,000 | 1 | 2,000 | 0.42 | 833.33 | 222 | 1 | 222 | 0.07 | 15.54 | 848.87
Individual | Self-Administered Form (dietary recall reminder, Food Diary, Day 1/Day 2) | Parents/Guardians (Group 2) | 1,066 | 1 | 1,066 | 0.19 | 198.99 | 196 | 1 | 196 | 0.02 | 3.92 | 202.91
Individual | Telephone Interview (24-Hour Dietary Recall, Day 1) | Parents/Guardians (Group 2) | 820 | 1 | 820 | 0.25 | 205.00 | 91 | 1 | 91 | 0.07 | 6.37 | 211.37
Individual | Telephone Interview (24-Hour Dietary Recall, Day 2) (c) | Parents/Guardians (Group 2) | 246 | 1 | 246 | 0.75 | 184.50 | 105 | 1 | 105 | 0.07 | 7.00 | 191.50
Individual | Study Assent Form (a) | Students (Group 2) | 4,000 | 1 | 4,000 | 0.05 | 200.00 | 0 | 0 | 0 | 0.00 | 0.00 | 200.00
Individual | Study Reminder, Day 1 | Students (Group 2) | 2,857 | 1 | 2,857 | 0.02 | 57.14 | 0 | 0 | 0 | 0.00 | 0.00 | 57.14
Individual | In-person Interview (Student Interview, 24-Hour Dietary Recall, Day 1) (b)(c) | Students (Group 2) | 2,000 | 1 | 2,000 | 1.12 | 2,240.00 | 857 | 1 | 857 | 0.14 | 119.98 | 2,359.98
Individual | Study Reminder, Day 2 | Students (Group 2) | 857 | 1 | 857 | 0.02 | 17.14 | 0 | 0 | 0 | 0.00 | 0.00 | 17.14
Individual | Telephone Interview (24-Hour Dietary Recall, Day 2) (c) | Students (Group 2) | 600 | 1 | 600 | 0.75 | 450.00 | 257 | 1 | 257 | 0.07 | 17.13 | 467.13
Subtotal Individuals |  |  | 8,000 |  | 24,380 |  | 5,321.74 | 0 |  | 2,016 |  | 190.10 | 5,511.84
Grand Total |  | 12,904 |  | 43,059 | 0.58 | 24,950.19 | 75 |  |  | 2,594 | 0.09 | 234.11 | 25,184.30

[FR Doc. 2018-13827 Filed 6-26-18; 8:45 am]

BILLING CODE 3410-30-P